GENERAL SERVICES ADMINISTRATION

[Notice-WWICC-2018-03; Docket No. 2018-0003; Sequence No. 3]

World War One Centennial Commission; Notification of Upcoming Public Advisory Meeting

AGENCY: World War One Centennial Commission.

ACTION: Meeting notice.

SUMMARY: Notice of this meeting is being provided according to the requirements of the Federal Advisory Committee Act. This notice provides the schedule and agenda for the October 2, 2018 meeting of the World War One Centennial Commission (the Commission). The meeting is open to the public.

DATES: Meeting date: The meeting will be held on Tuesday, October 2, 2018, starting at 1:00 p.m. Central Daylight Time (CDT), and ending no later than 4:00 p.m. CDT.

Written Comments may be submitted to the Commission and will be made part of the permanent record of the Commission. Comments must be received by 5:00 p.m. Eastern Daylight Time (EDT), September 28, 2018.

ADDRESSES: The meeting will be held at Pritzker Military Museum and Library, 104 S Michigan Ave., Chicago, IL 60603 (2nd Floor). This location is handicapped accessible. The meeting will be open to the public. Persons attending are requested to refrain from using perfume, cologne, and other fragrances (see http://www.access-board.gov/about/policies/fragrance.htm for more information). Written Comments may be provided by email to daniel.dayton@worldwar1centennial.org. Contact Daniel S. Dayton at daniel.dayton@worldwar1centennial.org to register to comment during the meeting's 30-minute public comment period.

Registered speakers/organizations will be allowed five (5) minutes, and will need to provide written copies of their presentations. Requests to comment, together with presentations for the meeting, must be received by 5:00 p.m. EDT, on Friday, September 28, 2018. Please contact Mr. Dayton at the email address above to obtain meeting materials.

FOR FURTHER INFORMATION CONTACT: Daniel S. Dayton, Designated Federal Officer, World War 1 Centennial Commission, 701 Pennsylvania Avenue NW, 123, Washington, DC 20004-2608, 202-380-0725 (Note: this is not a toll-free number).

SUPPLEMENTARY INFORMATION:

Background

The World War One Centennial Commission was established by Public Law 112-272 (as amended), as a commission to ensure a suitable observance of the centennial of World War I, to provide for the designation of memorials to the service of members of the United States Armed Forces in World War I, and for other purposes. Under this authority, the Committee will plan, develop, and execute programs, projects, and activities to commemorate the centennial of World War I, encourage private organizations and State and local governments to organize and participate in activities commemorating the centennial of World War I, facilitate and coordinate activities throughout the United States relating to the centennial of World War I, serve as a clearinghouse for the collection and dissemination of information about events and plans for the centennial of World War I, and develop recommendations for Congress and the President for commemorating the centennial of World War I. Notice of this meeting is being provided according to the requirements of the Federal Advisory Committee Act, 5 U.S.C. App. 10(a)(2).

Agenda

Tuesday October 2, 2018

Old Business:

• Acceptance of minutes of last meeting

• Public Comment Period

New Business:

• Executive Director's Report—Executive Director Dayton

• 2019 Signature Event Proposals—Executive Director Dan Dayton

• Financial Committee Report—Commissioner Dunning

• Education Committee Report—Commissioner O'Connell

• ACE Committee Report—Commissioner Monahan

• Memorial Report—Vice Chair Fountain

• Fundraising Report—Commissioner Sedgwick

• International Report—Commissioner Seefried

Other Business:

• Chairman's Report

Upcoming Meeting Dates

• January 22, 2019, via phone

• April 21-22, 2019, Washington, DC

• July 2019, Kansas City, MO

Motion to Adjourn

Dated: September 4, 2018.
Daniel S. Dayton,
Designated Federal Official, World War I Centennial Commission.

[FR Doc. 2018-19491 Filed 9-7-18; 8:45 am]

BILLING CODE 6820-95-P